DEPARTMENT OF LABOR

Veterans' Employment and Training Service

The Advisory Committee on Veterans' Employment Training and Employer Outreach; Notice of Open Meeting

The Advisory Committee on Veterans' Employment Training and Employer Outreach (ACVETEO) was established pursuant to Title II of the Veterans' Housing Opportunity and Benefits Improvement Act of 2006 (Pub. L. 109-233) and Section 9 of the Federal Advisory Committee Act (FACA) (Pub. L. 92-462, Title 5 U.S.C. app.II). The ACVETEO's authority is codified in Title 38 U.S. Code, Section 4110. The ACVETEO's Charter was signed and transmitted to the Congress on March 16, 2007.

The ACVETEO is responsible for assessing employment and training needs of veterans; determining the extent to which the programs and activities of the Department of Labor meet these needs; and assisting in carrying out outreach to employers seeking to hire veterans.

The Advisory Committee on Veterans' Employment Training and Employer Outreach will meet on Tuesday, May 15th from 8 a.m. to 4 p.m. at the U.S. Department of Labor, 200 Constitution Avenue, NW., Washington DC (202-693-4700). The committee will discuss programs assisting veterans seeking employment and raising employer awareness as to the advantages of hiring veterans.

Individuals needing special accommodations should notify Bill Offutt at (202) 693-4717 by May 7, 2007.

Signed in Washington, DC, this 16th day of April 2007.
John McWilliam,
Deputy Assistant Secretary, Veterans' Employment and Training.

[FR Doc. E7-7775 Filed 4-25-07; 8:45 am]

BILLING CODE 4510-79-P